DEPARTMENT OF TRANSPORTATION

Federal Aviation Administration

14 CFR Part 39

[Docket No. FAA-2024-2134; Project Identifier MCAI-2024-00125-T; Amendment 39-22894; AD 2024-24-04]

RIN 2120-AA64

Airworthiness Directives; Airbus Defense and Space S.A. (Formerly Known as Construcciones Aeronauticas, S.A.) Airplanes

AGENCY: Federal Aviation Administration (FAA), DOT.

ACTION: Final rule.

SUMMARY: The FAA is superseding Airworthiness Directive (AD) 2018-18-09, which applied to all Airbus Defense and Space S.A. Model CN-235, CN-235-100, CN-235-200, and CN-235-300 airplanes; and certain Model C-295 airplanes. AD 2018-18-09 required a detailed inspection of the upper and lower lugs of each horizontal stabilizer-to-fuselage rear attachment fitting, repair if necessary, and a report of findings. This AD was prompted by reports of new occurrences of cracking. This AD requires repetitive inspections, as specified in a European Union Aviation Safety Agency (EASA) AD, which is incorporated by reference. This AD also revises the applicability. The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2024-2134; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2134.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Background

The FAA issued a notice of proposed rulemaking (NPRM) to amend 14 CFR part 39 to supersede AD 2018-18-09, Amendment 39-19388 (83 FR 45041, September 5, 2018) (AD 2018-18-09). AD 2018-18-09 applied to all Airbus Defense and Space S.A. Model CN-235, CN-235-100, CN-235-200, and CN-235-300 airplanes; and certain Model C-295 airplanes. AD 2018-18-09 required a detailed inspection of the upper and lower lugs of each horizontal stabilizer-to-fuselage rear attachment fitting, repair if necessary, and a report of findings. The FAA issued AD 2018-18-09 to address cracking, which could lead to reduced structural integrity of the lugs on the horizontal stabilizer-to-fuselage rear attachment fittings. The unsafe condition, if not addressed, could result in lug or fitting failure, and could result in reduced controllability of the airplane.

The NPRM published in the Federal Register on August 30, 2024 (89 FR 70582). The NPRM was prompted by AD 2024-0049, dated February 20, 2024, issued by EASA, which is the Technical Agent for the Member States of the European Union (EASA AD 2024-0049) (also referred to as the MCAI). The MCAI states that since EASA AD 2017-0218, dated November 8, 2017, was issued, new occurrences of cracking were reported and the manufacturer issued new material to provide instructions for repetitive high-frequency eddy current (HFEC) inspections for cracking of the affected part for all airplanes.

In the NPRM, the FAA proposed to require repetitive inspections, as specified in EASA AD 2024-0049. The NPRM also proposed to revise the applicability. The FAA is issuing this AD to address cracking, which could lead to reduced structural integrity of the lugs on the horizontal stabilizer-to-fuselage rear attachment fittings and consequent lug or fitting failure, and could result in reduced controllability of the airplane.

You may examine the MCAI in the AD docket at regulations.gov under Docket No. FAA-2024-2134.

Discussion of Final Airworthiness Directive

Comments

The FAA received comments from a commenter who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0049 specifies procedures for repetitive HFEC inspections for discrepancies (including cracking, rework, and sharp corner radii) of the upper and lower lugs of each horizontal stabilizer-to-fuselage rear attachment fitting and contacting the manufacturer for corrective actions. This material is reasonably available because the interested parties have access to it through their normal course of business or by the means identified in the ADDRESSES section.

Costs of Compliance

The FAA estimates that this AD affects 14 airplanes of U.S. registry. The FAA estimates the following costs to comply with this AD:

Estimated Costs For Required Actions
Action | Labor cost | Parts cost | Cost per product | Cost on U.S. operators
New actions | Up to 15 work-hours × $85 per hour = $1,275 | None | Up to $1,275 | Up to $17,850.

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-18-09, Amendment 39-19388 (83 FR 45041, September 5, 2018); and

b. Adding the following new AD:

2024-24-04 Airbus Defense and Space S.A. (Formerly known as Construcciones Aeronauticas, S.A.): Amendment 39-22894; Docket No. FAA-2024-2134; Project Identifier MCAI-2024-00125-T.

(a) Effective Date

This airworthiness directive (AD) is effective January 13, 2025.

(b) Affected ADs

This AD replaces AD 2018-18-09, Amendment 39-19388 (83 FR 45041, September 5, 2018) (AD 2018-18-09).

(c) Applicability

This AD applies to all Airbus Defense and Space S.A. (formerly known as Construcciones Aeronauticas, S.A.) Model CN-235, CN-235-200, CN-235-300, and C-295 airplanes, certificated in any category.

(d) Subject

Air Transport Association (ATA) of America Code 55, Stabilizers.

(e) Unsafe Condition

This AD was prompted by a report that cracks were found on the horizontal stabilizer-to-fuselage rear attachment fitting. The FAA is issuing this AD to address cracking, which could lead to reduced structural integrity of the lugs on the horizontal stabilizer-to-fuselage rear attachment fittings. The unsafe condition, if not addressed, could result in lug or fitting failure, and could result in reduced controllability of the airplane.

(f) Compliance

Comply with this AD within the compliance times specified, unless already done.

(g) Requirements

Except as specified in paragraph (h) of this AD: Comply with all required actions and compliance times specified in, and in accordance with, European Union Aviation Safety Agency (EASA) AD 2024-0049, dated February 20, 2024 (EASA AD 2024-0049).

(h) Exceptions to EASA AD 2024-0049

(1) Where paragraph (1) of EASA AD 2024-0049 specifies to do the initial inspection within certain compliance times, for this AD, accomplish the initial inspection at the time specified in paragraph (h)(1)(i) or (ii) of this AD, whichever occurs later.

(i) At the applicable compliance time specified in paragraph (1) of EASA AD 2024-0049.

(ii) Within 50 flight cycles or 50 flight hours, whichever occurs first, after the effective date of this AD.

(2) Where paragraph (1) of EASA AD 2024-0049 specifies “thereafter, at intervals as defined in paragraph 3.1.1 of the AOT,” this AD requires replacing that text with “thereafter, at intervals not to exceed the intervals defined in paragraph 3.1.1 of the AOT.”

(3) This AD does not adopt the “Remarks” section of EASA AD 2024-0049.

(4) Where paragraph (2) of EASA AD 2024-0049 specifies “If, during any inspection as required by paragraph (1) of this AD, discrepancies are detected, as defined in the AOT, before next flight, contact Airbus DS for approved corrective action instructions and accomplish those instructions accordingly,” this AD requires replacing that text with “If, during any inspection as required by paragraph (1) of this AD, any discrepancy is detected, the discrepancy must be repaired before further flight using a method approved by the Manager, International Validation Branch, FAA; or EASA; or Airbus Defense and Space S.A.'s EASA Design Organization Approval (DOA). If approved by the DOA, the approval must include the DOA-authorized signature.”

(i) No Reporting Requirement

Although the material referenced in EASA AD 2024-0049 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus Defense and Space S.A.'s EASA Design Organization Approval (DOA). If approved by the DOA, the approval must include the DOA-authorized signature.

(k) Additional Information

For more information about this AD, contact Shahram Daneshmandi, Aviation Safety Engineer, FAA, 1600 Stewart Avenue, Suite 410, Westbury, NY 11590; telephone 206-231-3220; email shahram.daneshmandi@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0049, dated February 20, 2024.

(ii) [Reserved]

(3) For EASA AD 2024-0049, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on November 21, 2024.
Victor Wicklund,
Deputy Director, Compliance & Airworthiness Division, Aircraft Certification Service.

[FR Doc. 2024-28787 Filed 12-6-24; 8:45 am]

BILLING CODE 4910-13-P